DEPARTMENT OF EDUCATION

[Docket No. ED-2023-SCC-0100]

Identifying Burden Across Department of Education Information Collection Requests; Request for Public Input

AGENCY: Office of the Chief Data Officer (OCDO), Office of Planning, Evaluation and Policy Development (OPEPD), Department of Education.

ACTION: Request for public input.

SUMMARY: The U.S. Department of Education (Department) is seeking comments from the public on how it can reduce the burden associated with its information collection requests (ICRs) on State, local, territorial, and Tribal governments, educational institutions, nonprofits, and individuals, while maintaining data, information, and analyses critical to fulfill the Department's mission. This effort will help the Department identify improvements, redundancies in information collections, and inefficiencies in collections in order to improve the value and use of data.

DATES: Interested persons are invited to submit comments on or before August 14, 2023.

ADDRESSES: Comments submitted in response to this notice should be submitted electronically through the Federal eRulemaking Portal at https://www.regulations.gov. If this site is not available to the public for any reason, the Department will temporarily accept comments at ICDocketMgr@ed.gov. If comments cannot be submitted electronically, please submit by postal mail or delivery to the following address: Manager of the Strategic Collections and Clearance Team, Governance and Strategy Division, U.S. Department of Education, 400 Maryland Ave. SW, LBJ, Room 4C210, Washington, DC 20202-8240. A list of active ICRs is available on reginfo.gov. Find the list of current information collections by selecting “Department of Education” from the Select Agency picklist under “Current Inventory,” and click “Submit.” Please reference the OMB control number when submitting comments regarding a specific ICR. Comments submitted after the comment period will not be accepted.

FOR FURTHER INFORMATION CONTACT: For specific questions related to collection activities, please contact Joanne Bogart, joanne.bogart@ed.gov and 202-205-7855.

If you are deaf, hard of hearing, or have a speech disability and wish to access telecommunications relay services, please dial 7-1-1.

SUPPLEMENTARY INFORMATION:

Public Participation: Interested persons are invited to comment on this notice by submitting written data, views, or arguments using the method identified in the ADDRESSES section.

Instructions: All submissions must include the agency name and docket number for this notice. All comments received will be posted without change to http://www.regulations.gov. Please exclude any personally identifiable information.

Docket: For access to the docket to read comments, go to http://www.regulations.gov.

Background

The Department collects information to support and advance its mission and respond to regulatory and statutory requirements. Information collection requests can include grant and financial aid applications, performance reports, studies, and statistical information that promote transparency and advances the field. The Department is now examining existing data collections to ensure that they generate benefits to students, families, educators, institutions, and the public that are commensurate with the effort involved with providing the information. To inform this work, the Department is soliciting public input to (1) better understand how specific ICRs may impose unnecessary burdens on State, local, territorial, and Tribal governments, educational institutions, nonprofits, and individuals, and (2) collect suggestions for improving ICRs to reduce burden while balancing the important purpose of the collections. This effort will support the Department in addressing requirements under the Paperwork Reduction Act (Pub. L. 104-13), including but not limited to minimizing paperwork burden on the public and ensuring the greatest public benefit from information created, collected, maintained, used, shared, and disseminated by or for the Federal Government. It will also inform the Department's work to address priorities outlined in Office of Management and Budget (OMB) memorandum M22-10 “Improving Access to Public Benefits Programs Through the Paperwork Reduction Act,” which provides guidance for Federal agencies on (1) more completely and transparently articulating burdens and associated costs experienced by the public when accessing essential public benefits programs, and (2) using an analysis of the submissions to “minimize the Federal information collection burden, with particular emphasis on those individuals and entities most adversely affected.”

Request For Public Input

A. Importance of Public Feedback

To achieve the objectives outlined in this document, it is critical that public input informs improvements in strategies, processes, and planning. The Department's ICRs affect many different individuals and entities, all of whom are likely to have useful information, data, and perspectives on the benefits and burdens of our existing processes. Given that unique knowledge, public feedback will play a significant role in improving the information collection process.

B. Maximizing the Value of Public Feedback

This notice contains a list of questions, the answers to which will assist the Department in identifying potential information collection processes and burdens that may benefit from review. The goals of this request are to reduce burdens on the affected groups, saving costs and time for both the affected groups and the Government while maintaining the critical purposes of the collections, increasing navigability, reducing redundancy, promoting simplification, improving efficiency, and removing barriers that unnecessarily impede access to resources. The Department encourages public comment on these questions and seeks any other information or data relevant to this notice. Public feedback that simply states that a stakeholder feels strongly that the Department should change its processes regarding information collections may not be as useful as feedback that contains specific information on changes that should be considered, or how a proposed change may reduce burden or otherwise improve existing submission processes.

Commenters should consider the principles below as they provide feedback on this notice:

• If a comment is about a specific OMB approved information collection, identify the collection by providing the OMB number, which can typically be found on the first page of a form or in the burden statement, and any data elements. You can also find this information in reginfo.gov under current inventory for the Department of Education. The links to individual ICRs can be obtained from that list.

• Explain why you recommend that a form, information collection, or submission process be modified or streamlined.

• To the extent feasible, illustrate the costs and time, burdens, and your perspective on the utility of respective collections and how proposed changes could reduce costs and burdens or increase the utility to the Department or the public.

• Focus on processes considered burdensome that have been in effect for enough time to warrant a fair evaluation (i.e., at least a year, in most cases).

C. Questions for Commenters

The non-exhaustive list of questions below is meant to assist members of the public in formulating comments and is not intended to restrict the feedback that members of the public may provide:

(1) Do some Department information collections or processes place a more significant burden on certain types of respondents, particularly individuals and entities that could be more adversely affected? If so, what impact could this have on these respondents in accessing public benefits?

(2) Do some Department information collection requests contain questions that the commenter might perceive as having limited value or utility? If so, please identify specific data elements when recommending burden reduction solutions.

(3) Do some Department information collections request duplicative information? If so, please recommend solutions (for example, eliminating duplicative questions in a specific collection or consolidating multiple collections)?

(4) What data-linkage or data-sharing activities can the Department engage in to reduce the burden of information collections?

(5) The Department recognizes that burden can be reduced by improving the usability of forms. How might the Department reduce burden by improving the usability of forms, independent of eliminating data collections or data elements?

(6) What additional feedback would you like to share regarding challenges, barriers, or suggested improvements for obtaining benefits from the Department?

Review of Public Feedback

The Department will use the public's feedback to inform an action plan for reducing burden, pursuant to OMB's memorandum. The Department will also use the public's feedback to consider reduction of administrative burdens more broadly. This notice is issued solely for information and program-planning purposes. Public input provided in response to this notice does not bind the Department to any further actions, including publishing a formal response or agreeing to initiate a recommended change. The Department will consider the feedback and make changes or improvements at its sole discretion.

Accessible Format: On request to the person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Roberto J. Rodriguez,
Assistant Secretary for Planning, Evaluation and Policy Development.

[FR Doc. 2023-14888 Filed 7-12-23; 8:45 am]

BILLING CODE 4000-01-P